DEPARTMENT OF JUSTICE

Notice of Lodging of Consent Decree Under the Comprehensive Environmental Response, Compensation and Liability Act

Notice is hereby given that on September 14, 2011, a proposed Consent Decree in United States v. Illinois Central Railroad Company, Civil Action No. 2:11-cv-02790, was lodged with the United States District Court for the Western District of Tennessee.

In this action the United States, on behalf of the U.S. Environmental Protection Agency (“EPA”), sought from the Illinois Central Railroad Company, (a) performance of the remedial design and the remedial action to address releases and threatened releases of hazardous substances at the Illinois Central Railroad Company (Johnston Yard) Superfund Alternative Site, located in Memphis, Shelby County, Tennessee (“the Site”), and (b) reimbursement of costs incurred and to be incurred by the United States for response activities undertaken and to be undertaken at the Site. The parties have reached a proposed settlement that requires Illinois Central Railroad Company to (a) perform the remedial design and the remedial action for the Site as provided in EPA's Record of Decision for the Site, and (b) to reimburse costs incurred and to be incurred by the United States in connection with the Site. The major components of the remedy include extraction of diesel phase separated hydrocarbon from the groundwater, followed by enhanced bioremediation as necessary, monitoring, and institutional controls to limit Site uses until cleanup goals are reached.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Illinois Central Railroad Company, D.J. Ref. 90-11-3-10095.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $123.00 (for a copy inclusive of appendices) or $23.00 (for a copy exclusive of appendices) (25 cents per page reproduction cost) payable to the U.S. Treasury or, if by e-mail or fax, forward a check in that amount to the Consent Decree Library at the stated address.

Henry S. Friedman,
Assistant Chief, Environmental Enforcement Section, Environment and Natural Resources Division.

[FR Doc. 2011-24117 Filed 9-19-11; 8:45 am]

BILLING CODE 4410-15-P